GOVERNMENT ACCOUNTABILITY OFFICE

Health Information Technology (HIT) Policy Committee Nomination Letters

AGENCY: Government Accountability Office (GAO).

ACTION: Notice on letters of nomination.

SUMMARY: The American Recovery and Reinvestment Act of 2009 (Act) established the HIT Policy Committee to make recommendations on the implementation of a nationwide health information technology infrastructure to the National Coordinator for Health Information Technology, whose office was also established by the Act. The HIT Policy Committee consists of at least 20 members, 13 of which are to be appointed by the Comptroller General within 45 days of enactment of the Act. For appointments to the HIT Policy Committee that will be made no later than April 3, 2009, I am announcing the following: Letters of nomination and resumes should be submitted by March 6, 2009 to ensure adequate opportunity for review and consideration of nominees prior to appointment of members.

ADDRESSES: GAO: 441 G Street, NW., Washington, DC 20548.

FOR FURTHER INFORMATION CONTACT: GAO: Office of Public Affairs, (202) 512-4800. 13101, American Recovery and Reinvestment Act of 2009.

Gene L. Dodaro,
Acting Comptroller General of the United States.

[FR Doc. E9-3906 Filed 2-24-09; 8:45 am]

BILLING CODE 1610-02-M